DEPARTMENT OF AGRICULTURE

Forest Service

Open House To Provide Information on the Proposed Rule for the Management of Roadless Areas in the State of Colorado

AGENCY: Forest Service, USDA.

ACTION: Notice of meeting.

SUMMARY: There will be an open house in Washington, DC to discuss the proposed rule for the management of roadless areas on National Forest System lands in the State of Colorado.

DATES: The open house will be held July 29, 2008, from 5 p.m. to 9 p.m.

ADDRESSES: The open house will be held at the U. S. Department of Agriculture, Whitten Building, Whitten Building Patio, 1400 Independence Avenue, SW., Washington, DC. Comments on the proposed rule may be sent via e-mail to COComments@fsroadless.org. Comments also may be submitted via the world wide Web/Internet at http://www.regulations.gov. Written comments concerning this notice should be addressed to Roadless Area Conservation-Colorado, P.O. Box 162909, Sacramento, CA 95916-2909, or via facsimile to 916-456-6724. All comments, including names and addresses, when provided, are placed in the record and are available for public inspection and copying. To inspect public comments, please contact Kathy Kurtz at 303-275-5083.

FOR FURTHER INFORMATION CONTACT: Kathy Kurtz, Colorado Roadless Rule Team Leader, at 303-275-5083.

Individuals using telecommunication devices for the deaf (TDD) may call the Federal Information Relay Service (FIRS) at 1-800-877-8339 between 8 a.m. and 8 p.m. Eastern Standard Time, Monday through Friday.

SUPPLEMENTARY INFORMATION: The public is invited to an open house with Forest Service personnel available to provide information and answer questions about the proposed Colorado Roadless Rule. Attendees are encouraged to submit written public comment at the open house, but there will be no time allotted at the open house for oral comments.

Meeting attendees will need to pass through U.S. Department of Agriculture security in order to enter the building. You will need photo identification to enter the building. Attendees are encouraged to provide their names to security prior to the meeting in order to gain quicker access to the building. Attendees can submit their names to a comment line by calling 202-205-1776. In the message you should identify yourself as wanting to attend the public meeting on the Colorado rule, and then both say and spell your name. Any bags that attendees bring will have to go through screening; you are, therefore, encouraged not to bring bags in order to expedite the screening process.

A copy of the proposed rule, draft environmental impact statement (DEIS), the DEIS summary, dates for public meetings in Colorado, and other information related to this rulemaking will be available at the national roadless Web site (http://www.roadless.fs.fed.us.) Reviewers may request printed copies or compact disks of the DEIS and the summary by writing to Colorado Roadless Team/Planning, USDA Forest Service, Rocky Mountain Regional Office, 740 Simms Street, Golden, CO, 80401-4720, or by e-mail to comments-rocky-mountain-regional-office@fs.fed.us, or by Fax to 303-275-5134. When ordering, requesters must specify their address, if they wish to receive the summary or full set of documents, and if the material should be provided in print or compact disk.

Dated: July 17, 2008.
Charles L. Myers,
Associate Deputy Chief, National Forest System.

[FR Doc. E8-16783 Filed 7-21-08; 8:45 am]

BILLING CODE 3410-11-P